DEPARTMENT OF HOMELAND SECURITY

U.S. Customs and Border Protection

DEPARTMENT OF THE TREASURY

19 CFR Part 12

[CBP Dec. 07-79; USCBP-2007-0074]

RIN 1505-AB87

Extension of Import Restrictions Imposed on Archaeological Material From Guatemala

AGENCIES: U.S. Customs and Border Protection, Department of Homeland Security; Department of the Treasury.

ACTION: Final rule.

SUMMARY: This document amends U.S. Customs and Border Protection (CBP) regulations to reflect the extension of import restrictions on certain archaeological material from Guatemala which were imposed by Treasury Decision (T.D.) 97-81 and extended by T.D. 02-56. The Acting Assistant Secretary for Educational and Cultural Affairs, United States Department of State, has determined that conditions continue to warrant the imposition of import restrictions. Accordingly, the restrictions will remain in effect for an additional 5 years, and the CBP regulations are being amended to indicate this second extension. These restrictions are being extended pursuant to determinations of the United States Department of State made under the terms of the Convention on Cultural Property Implementation Act in accordance with the United Nations Educational, Scientific and Cultural Organization (UNESCO) Convention on the Means of Prohibiting and Preventing the Illicit Import, Export and Transfer of Ownership of Cultural Property. T.D. 97-81 contains the Designated List of archaeological material that describes the articles to which the restrictions apply.

DATES: Effective Date: September 29, 2007.

FOR FURTHER INFORMATION CONTACT: For legal aspects, George F. McCray, Esq., Chief, Intellectual Property Rights and Restricted Merchandise Branch, (202) 572-8710. For operational aspects, Michael Craig, Chief, Other Government Agencies Branch, (202) 863-6558.

SUPPLEMENTARY INFORMATION:

Background

Pursuant to the provisions of the 1970 United Nations Educational, Scientific and Cultural Organization (UNESCO) Convention, codified into U.S. law as the Convention on Cultural Property Implementation Act (Pub. L. 97-446, 19 U.S.C. 2601 et seq.), the United States entered into a bilateral agreement with Guatemala on September 29, 1997, concerning the imposition of import restrictions on archaeological objects and materials from the pre-Columbian cultures of Guatemala. On October 3, 1997, the former United States Customs Service published T.D. 97-81 in the Federal Register (62 FR 51771), which amended 19 CFR 12.104g(a) to reflect the imposition of these restrictions, and included a list designating the types of archaeological objects and materials covered by the restrictions. The restrictions cover Maya material from the Peten Lowlands and related pre-Columbian material from the Highlands and the Southern Coast of Guatemala.

Prior to the issuance of T.D. 97-81, on April 15, 1991, the former United States Customs Service published T.D. 91-34 in the Federal Register (56 FR 15181), which imposed emergency import restrictions on certain archaeological material from the Peten Region of Guatemala. Under T.D. 91-34, § 12.104g(b) (19 CFR 12.104g(b)) of the regulations pertaining to emergency restrictions was amended accordingly. These emergency restrictions were extended for a period of three years on November 7, 1994, under T.D. 94-84 (59 FR 55528). Subsequently, the same archaeological material covered by T.D. 91-34 (and the extension of T.D. 94-84) was subsumed in T.D. 97-81 when it was published in 1997, at which time the emergency restrictions of T.D. 91-34 (and T.D. 94-84) were removed from § 12.104g(b).

Import restrictions listed in 19 CFR 12.104g(a) are “effective for no more than five years beginning on the date on which the agreement enters into force with respect to the United States. This period can be extended for additional periods not to exceed five years if it is determined that the factors which justified the initial agreement still pertain and no cause for suspension of the agreement exists” (19 CFR 12.104g(a)).

On September 30, 2002, the former United States Customs Service published T.D. 02-56 in the Federal Register (67 FR 61259), which amended 19 CFR 12.104g(a) to reflect the extension of these import restrictions for an additional period of five years until September 29, 2007.

After reviewing the findings and recommendations of the Cultural Property Advisory Committee, and in response to a request by the Government of Guatemala, the Acting Assistant Secretary for Educational and Cultural Affairs, United States Department of State, concluding that the cultural heritage of Guatemala continues to be in jeopardy from pillage of archaeological materials, made the necessary determination to extend the import restrictions for an additional five years on July 18, 2007, and diplomatic notes have been exchanged, reflecting the extension of the restrictions. Accordingly, CBP is amending 19 CFR 12.104g(a) to reflect the extension of the import restrictions.

The Designated List of Archaeological Material from Guatemala covered by these import restrictions is set forth in T.D. 97-81. The Designated List and accompanying image database may also be found at the following internet Web site address: http://exchanges.state.gov/culprop/gtimage.html.

The restrictions on the importation of these archaeological materials from Guatemala are to continue in effect for an additional 5 years. Importation of such material continues to be restricted unless the conditions set forth in 19 U.S.C. 2606 and 19 CFR 12.104c are met.

Inapplicability of Notice and Delayed Effective Date

This amendment involves a foreign affairs function of the United States and is, therefore, being made without notice or public procedure (5 U.S.C. 553(a)(1)). For the same reason, a delayed effective date is not required under 5 U.S.C. 553(d)(3).

Regulatory Flexibility Act

Because no notice of proposed rulemaking is required, the provisions of the Regulatory Flexibility Act (5 U.S.C. 601 et seq.) do not apply.

Executive Order 12866

Because this rule involves a foreign affairs function of the United States, it is not subject to Executive Order 12866.

Signing Authority

This regulation is being issued in accordance with 19 CFR 0.1(a)(1).

List of Subjects in 19 CFR Part 12

Cultural property, Customs duties and inspection, Imports, Prohibited merchandise.

Amendment to CBP Regulations

For the reasons set forth above, part 12 of Title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624;

* * * * *

Sections 12.104 through 12.104i also issued under 19 U.S.C. 2612;

* * * * *

2. In § 12.104g(a), the table of the list of agreements imposing import restrictions on described articles of cultural property of State Parties is amended in the entry for Guatemala by removing the reference to “T.D. 02-56” and adding in its place “CBP Dec. 07-79” in the column headed “Decision No.”.

W. Ralph Basham,
Commissioner, U.S. Customs and Border Protection.

Approved: September 21, 2007.
Timothy E. Skud,
Deputy Assistant Secretary of the Treasury.

[FR Doc. 07-4748 Filed 9-25-07; 8:45 am]

BILLING CODE 9111-14-P